ENVIRONMENTAL PROTECTION AGENCY

[EPA-HQ-OAR-2005-0490; FRL-8195-6]

Agency Information Collection Activities; Submission to OMB for Review and Approval; Comment Request; Consolidated Emissions Reporting (Renewal); EPA ICR No. 0916.12, OMB Control No. 2060-0088

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 10, 2006.

ADDRESSES: Submit your comments, referencing Docket ID No. EPA-HQ-OAR-2005-0490, to (1) EPA online using http://www.regulations.gov (our preferred method), by e-mail to a-and-r-docket@epa.gov, or by mail to: EPA Docket Center (EPA/DC), Environmental Protection Agency, Air and Radiation Docket, Mail Code/6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Dennis Beauregard, Air Quality Assessment Division (C339-02), Environmental Protection Agency, 1200 Pennsylvania Ave., NW., Washington, DC 20460; telephone number: 919-541-5512; fax number: 919-541-0684; e-mail address: beauregard.dennis@epa.gov.

SUPPLEMENTARY INFORMATION: EPA has submitted the following ICR to OMB for review and approval according to the procedures prescribed in 5 CFR 1320.12. On March 2, 2006 (71 FR 10668), EPA sought comments on this ICR pursuant to 5 CFR 1320.8(d). EPA received one comment which was not relevant to the reporting burden estimate in the ICR. Any additional comments on this ICR should be submitted to EPA and OMB within 30 days of this notice.

EPA has established a public docket for this ICR under Docket ID No. EPA-HQ-OAR-2005-0490, which is available for online viewing at http://www.regulations.gov, or in person viewing at the Air and Radiation Docket and Information Center in the EPA Docket Center (EPA/DC), EPA West, Room B102, 1301 Constitution Avenue, NW., Washington, DC. The EPA/DC Public Reading Room is open from 8 a.m. to 4:30 p.m., Monday through Friday, excluding legal holidays. The telephone number for the Reading Room is 202-566-1744, and the telephone number for the Air and Radiation Docket and Information Center is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Consolidated Emissions Reporting (Renewal).

ICR numbers: EPA ICR No. 0916.12, OMB Control No. 2060-0088.

ICR Status: This ICR is scheduled to expire on June 30, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has promulgated a Consolidated Emissions Reporting Rule (CERR) (40 CFR part 51, subpart A) to coordinate new emissions inventory reporting requirements with existing requirements of the Clean Air Act and 1990 Amendments. Under the CERR, 55 State and Territorial air quality agencies, including the District of Columbia, as well as an estimated 49 local air quality agencies, must annually submit emissions data for point sources emitting specified levels of volatile organic compounds, oxides of nitrogen, carbon monoxide, sulfur dioxide, particulate matter less than or equal to 10 micrometers in diameter, particulate matter less than or equal to 2.5 micrometers in diameter (PM2.5), and ammonia (NH3).

Every 3 years, States will be required to submit a point source inventory, as well as a statewide stationary nonpoint, nonroad mobile, onroad mobile, and biogenic source inventory for all criteria pollutants and PM2.5, and NH3. The emissions data submitted for the annual and 3-year cycle inventories for stationary point, nonpoint, nonroad mobile, and mobile sources will be used by EPA's Office of Air Quality Planning and Standards to assist in developing ambient air quality emission standards, performing regional modeling, and in preparing national trends assessments and other special analyses and reports. Collection of PM2.5 emissions data will be necessary to support implementation of the PM2.5 National Ambient Air Quality Standard. The information collected under the authority of the CERR is mandatory and as specified in the CERR cannot be treated as confidential by EPA.

Burden Statement: The annual public reporting and recordkeeping burden for this collection of information is estimated to average 29 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State, local and tribal governments, Business, Federal Government.

Estimated Number of Respondents: 2,038.

Frequency of Response: Annually and Triennially.

Estimated Total Annual Hour Burden: 58,172.

Estimated Total Annual Cost: $4,684,595, includes $230,880 annualized capital or O&M costs.

Changes in the Estimates: There is a decrease of 54,679 hours in the total estimated burden currently identified in the OMB Inventory of Approved ICR Burdens. This decrease resulted from the elimination of the “One Time Activities” that were accounted for under the currently approved ICR.

Dated: June 23, 2006.
Oscar Morales,
Director, Collection Strategies Division.

[FR Doc. E6-10844 Filed 7-10-06; 8:45 am]

BILLING CODE 6560-50-P